DEPARTMENT OF AGRICULTURE

Animal and Plant Health Inspection Service

[Docket No. APHIS-2015-0006]

Notice of Availability of a Treatment Evaluation Document; Hot Water Treatment of Oversized Mangoes

AGENCY: Animal and Plant Health Inspection Service, USDA.

ACTION: Notice of availability and request for comments.

SUMMARY: We are advising the public that we have determined that it is necessary to amend hot water treatment schedule T102-a in the Plant Protection and Quarantine Treatment Manual to extend the applicability of the treatment to additional mango commodities. We have prepared a treatment evaluation document that describes the revised treatment schedule and explains why we have determined that it is effective at neutralizing certain target pests. We are making this treatment evaluation document available to the public for review and comment.

DATES: We will consider all comments that we receive on or before June 22, 2015.

ADDRESSES: You may submit comments by either of the following methods:

• Federal eRulemaking Portal: Go to http://www.regulations.gov/#!docketDetail;D=APHIS-2015-0006.

• Postal Mail/Commercial Delivery: Send your comment to Docket No. APHIS-2015-0006, Regulatory Analysis and Development, PPD, APHIS, Station 3A-03.8, 4700 River Road Unit 118, Riverdale, MD 20737-1238.

Supporting documents and any comments we receive on this docket may be viewed at http://www.regulations.gov/#!docketDetail;D=APHIS-2015-0006 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Inder P.S. Gadh, Senior Risk Manager—Treatments, PPQ, APHIS, 4700 River Road Unit 133, Riverdale, MD 20737-1231; (301) 851-2018.

SUPPLEMENTARY INFORMATION: The regulations in 7 CFR chapter III are intended, among other things, to prevent the introduction or dissemination of plant pests and noxious weeds into or within the United States. Under the regulations, certain plants, fruits, vegetables, and other articles must be treated before they may be moved into the United States or interstate. The phytosanitary treatments regulations contained in 7 CFR part 305 (referred to below as the regulations) set out standards for treatments required in 7 CFR parts 301, 318, and 319 for fruits, vegetables, and other articles.

In § 305.2, paragraph (b) states that approved treatment schedules are set out in the Plant Protection and Quarantine (PPQ) Treatment Manual.¹ Section 305.3 sets out the processes for adding, revising, or removing treatment schedules in the PPQ Treatment Manual. In that section, paragraph (b) sets out the process for adding, revising, or removing treatment schedules when there is an immediate need to make a change. The circumstances in which an immediate need exists are described in § 305.3(b)(1). They are:

¹ The PPQ Treatment Manual is available at http://www.aphis.usda.gov/import_export/plants/manuals/index.shtml or by contacting the Animal and Plant Health Inspection Service, Plant Protection and Quarantine, Manuals Unit, 92 Thomas Johnson Drive, Suite 200, Frederick, MD 21702.

• PPQ has determined that an approved treatment schedule is ineffective at neutralizing the targeted plant pest(s).

• PPQ has determined that, in order to neutralize the targeted plant pest(s), the treatment schedule must be administered using a different process than was previously used.

• PPQ has determined that a new treatment schedule is effective, based on efficacy data, and that ongoing trade in a commodity or commodities may be adversely impacted unless the new treatment schedule is approved for use.

• The use of a treatment schedule is no longer authorized by the U.S. Environmental Protection Agency or by any other Federal entity.

A treatment currently listed in the PPQ Treatment Manual (T102-a) requires mango (Mangifera indica) to be treated with hot water immersion to prevent the introduction into the United States of Ceratitis capitata (Mediterranean fruit fly) and Anastrepha spp. fruit flies, including A. ludens (Mexican fruit fly). Historically, the treatment schedules for T102-a required the fruit to undergo different immersion times based on the fruit's country of origin, shape, and size (weight). While rounded mango varieties weighing up to 900 grams were authorized for importation from Mexico, Central America (north of and including Costa Rica), Puerto Rico, the U.S. Virgin Islands, and the West Indies excluding islands of Aruba, Bonaire, Curacao, Margarita, Tortuga, and Trinidad and Tobago, the maximum allowable size of rounded mango varieties that could be treated with T102-a and imported into the United States from Panama, countries in South America, and the West Indies islands of Aruba, Bonaire, Curacao, Margarita, Tortuga, and Trinidad and Tobago was only 650 grams.

In 2009, the national plant protection organization (NPPO) of Peru formally requested that the Animal and Plant Health Inspection Service (APHIS) amend the PPQ Treatment Manual to allow the use of T102-a hot‐water immersion treatment as a phytosanitary treatment to mitigate fruit fly risks in mangoes weighing more than 650 grams. A similar interest had previously been expressed by other countries in South America, namely Brazil, Ecuador, and Venezuela. Based on research conducted by the NPPO of Peru in support of its request, APHIS has concluded that the T102-a treatment schedule of 110‐minute fruit immersion in a constant 70 °F (41.6 °C) hot-water bath is an efficacious phytosanitary treatment for eggs and larvae of C. capitata and Anastrepha spp. fruit flies in mangoes weighing 651 to 900 grams and that the treatment is effective for these over-sized mangoes regardless of their country of origin.

In 2014, APHIS inspectors working in Mexico and Brazil observed that approximately 20 percent of the treatments using the T102-a treatment schedule involving “flat” or “elongated” mangoes weighing between 525 grams and 570 grams contained fruit that did not reach the target pulp temperature for mitigating the risk from fruit flies at the end of treatment duration. However, after conducting a literature review, APHIS determined that mango shape did not affect the efficacy of the treatment. Therefore, as an emergency measure, the treatment was amended so that all would have to undergo hot water immersion treatment with treatment duration strictly governed by weight class. Treatment duration times were based on the treatment duration times previously put in place for rounded mangoes from those countries. As an emergency measure, this action was done administratively and was not meant to be permanent.

Based on Peru's research validating treatment efficacy on over-sized mangoes and APHIS' conclusion that the 110-minute immersion at 70 °F treatment covers mangoes weighing up to 900 grams regardless of their country of origin, APHIS has determined that restrictions associated with shape or country of origin are no longer relevant. Therefore, in accordance with § 305.3(b)(2), we are providing notice that we have determined that it is necessary to amend treatment schedule T102-a to specify the following weight-based dip times:

If the weight is (grams): | Then the dip time (minutes) is:
Up to 375 | 65
376 to 500 | 75
501 to 700 | 90
701 to 900 | 110
Valid if the fruit is not hydro-cooled within 30 minutes of removal from the hot-water immersion tank. Alternatively, 10 minutes may be added to the treatment duration to allow immediate hydro-cooling.

In order to have minimum adverse impact on the ongoing trade of this commodity from mango exporting countries, we are making these changes effective immediately upon publication of this notice.

The reasons for these revisions to the treatment manual are described in detail in the treatment evaluation document (TED) we have prepared to support this action. The TED may be viewed on the Regulations.gov Web site or in our reading room (see ADDRESSES above for instructions for accessing Regulations.gov and information on the location and hours of the reading room). You may also request paper copies of the TED by calling or writing to the person listed under FOR FURTHER INFORMATION CONTACT. Please refer to the subject of the TED when requesting copies.

After reviewing the comments we receive, we will announce our decision regarding the revised treatment schedule described in the TED in a subsequent notice, in accordance with paragraph (b)(3) of § 305.3. If we do not receive any comments, or the comments we receive do not change our determination that the proposed changes are effective, we will affirm these changes to the PPQ Treatment Manual and make available a new version of the PPQ Treatment Manual reflecting these changes. If we receive comments that cause us to determine that additional changes need to be made to treatment schedule T102-a, we will make available a new version of the PPQ Treatment Manual that reflects the changes.

Authority: 7 U.S.C. 7701-7772 and 7781-7786; 21 U.S.C. 136 and 136a; 7 CFR 2.22, 2.80, and 371.3.

Done in Washington, DC, this 17th day of April 2015.
Kevin Shea,
Administrator, Animal and Plant Health Inspection Service.

[FR Doc. 2015-09468 Filed 4-22-15; 8:45 am]

BILLING CODE 3410-34-P